DEPARTMENT OF TRANSPORTATION

Federal Aviation Administration

14 CFR Part 39

[Docket No. 98-CE-57-AD]

RIN 2120-AA64

Airworthiness Directives; Cessna Aircraft Company 150, 172, 175, 180, 182, 185, 206, 210, and 336 Series Airplanes

AGENCY: Federal Aviation Administration, DOT.

ACTION: Notice of proposed rulemaking (NPRM).

SUMMARY: This document proposes to adopt a new airworthiness directive (AD) that would apply to certain Cessna Aircraft Company (Cessna) 150, 172, 175, 180, 182, 185, 206, 210, and 336 series airplanes. The proposed AD would affect those airplanes equipped with 0513166 series plastic control wheels. The proposed AD would require you to repetitively inspect these wheels for cracks, conduct a pull test on these wheels, and replace any control wheel with a crack or that does not pass the pull test. Replacement of the control wheels would be with ones that are FAA-approved and are not 0513166 series plastic control wheels. The proposed AD is the result of many incidents of control wheels cracking or breaking on the above-referenced airplanes. The actions specified by the proposed AD are intended to detect and correct cracked or defective control wheels, which could result in loss of control of the airplane during takeoff, landing, or ground operations.

DATES: The Federal Aviation Administration (FAA) must receive any comments on this proposed rule by February 2, 2001.

ADDRESSES: Send comments in triplicate to the Federal Aviation Administration (FAA), Central Region, Office of the Regional Counsel, Attention: Rules Docket No. 98-CE-57-AD, 901 Locust, Room 506, Kansas City, Missouri 64106. You may inspect comments at this location between 8 a.m. and 4 p.m., Monday through Friday, except holidays.

You may get the service information referenced in the proposed AD from Cessna Aircraft Company, Product Support, P.O. Box 7706, Wichita, Kansas 67277; telephone: (316) 517-5800; facsimile: (316) 942-9006. You may examine this information at the Rules Docket at the address above.

FOR FURTHER INFORMATION CONTACT: Eual Conditt, Aerospace Engineer, Wichita Aircraft Certification Office, FAA, 1801 Airport Road, Mid-Continent Airport, Wichita, Kansas 67209; telephone: (316) 946-4128; facsimile: (316) 946-4407.

SUPPLEMENTARY INFORMATION:

Comments Invited

How do I comment on this proposed AD? We invite your comments on the proposed rule. You may send whatever written data, views, or arguments you choose. You need to include the rule's docket number and send your comments in triplicate to the address named under the caption ADDRESSES. We will consider all comments received by the closing date named above, before acting on the proposed rule. We may change the proposals contained in this notice because of the comments received.

Are there any specific portions of the proposed AD I should pay attention to? The FAA specifically invites comments on the overall regulatory, economic, environmental, and energy aspects of the proposed rule that might call for a need to change the proposed rule. You may look at all comments we receive. We will file a report in the Rules Docket that summarizes each FAA contact with the public that concerns the substantive parts of this proposal.

The FAA is reexamining the writing style we currently use in regulatory documents, in response to the Presidential memorandum of June 1, 1998. That memorandum requires federal agencies to communicate more clearly with the public. We are interested in your comments on the ease of understanding this document, and any other suggestions you might have to improve the clarity of FAA communications that affect you. You can get more information about the Presidential memorandum and the plain language initiative at http://www.faa.gov/language/.

How can I be sure FAA receives my comment?If you want us to acknowledge the receipt of your comments, you must include a self-addressed, stamped postcard. On the postcard, write “Comments to Docket No. 98-CE-57-AD.” We will date stamp and mail the postcard back to you.

Discussion

What events have caused this proposed AD? The FAA has received reports of many incidents of control wheels cracking or breaking on Cessna 150, 172, 175, 180, 182, 185, 206, 210, and 336 series airplanes. The problem control wheels are 0513166 series plastic control wheels.

The cause of this problem is because of temperature variations in the molding process during manufacture of the control wheels and deterioration with age and temperature extremes.

What are the consequences if the condition is not corrected? This condition could result in the control wheels breaking while the airplane is in operation. A consequent loss of control of the airplane during takeoff, landing, or ground operations could occur.

Relevant Service Information

What service information applies to this subject?Cessna Service Letter 64-8, dated February 14, 1964, contains information that applies to this subject.

What are the provisions of this service bulletin? The service letter describes procedures for inspecting and pull testing the control wheels.

The FAA's Determination and an Explanation of the Provisions of the Proposed AD

What has FAA decided? After examining the circumstances and reviewing all available information related to the incidents described above, we have determined that:

• The unsafe condition referenced in this document exists or could develop on other Cessna 150, 172, 175, 180, 182, 185, 206, 210, and 336 series airplanes of the same type design that are equipped with 0513166 series plastic control wheels;

• These airplanes should have the actions specified in the above service letter incorporated; and

• The FAA should take AD action to correct this unsafe condition.

What does this proposed AD require? This proposed AD would require you to:

• Repetitively inspect and pull test the 0513166 series control wheels; and

• if necessary, replace any control wheels that fail the inspection or pull test.

What are the differences between the service bulletin and the proposed AD? The Cessna service letter specifies inspecting and testing the control wheels as soon as possible and positively by the next 100-hour inspection. We propose that you inspect and pull test the control wheels and replace (if necessary) the control wheels within 100 hours time-in-service (TIS) after the effective date of this proposed AD, and then at intervals not to exceed 12 months until the control wheels are replaced.

We believe that these compliance times will give the owners or operators of the affected airplanes enough time to have the proposed actions performed without compromising the safety of the airplanes.

Cost Impact

How many airplanes would this proposed AD impact? We estimate the proposed AD would affect 12,592 airplanes in the U.S. registry.

What would be the cost impact of the proposed AD on owners/operators of the affected airplanes? We estimate the following costs to do the proposed inspection and pull test:

Labor cost | Parts cost | Total cost per airplane | Total cost on U.S. operators
1 hour at $60 each hour | No parts are required. | 1 hour × $60 = $60 | 12,592 airplanes × $60 for each airplane = $755,520.

We estimate the following costs to do any necessary control wheel replacements that would be required based on the results of the proposed inspection and pull test. We have no way of determining the number of airplanes that may need such control wheel replacement:

Labor cost | Parts cost | Total cost per airplane
1 hour at $60 for each hour | $597 for each control wheel | $60 + $597 = $657.

These figures only consider the cost of the first inspection and test and do not account for repetitive inspections and tests. We do not have any means of finding out the number of repetitive inspections and tests the owner/operator would incur over the life of an affected airplane.

Regulatory Impact

How would this proposed AD impact various entities?The proposed regulations would not have substantial direct effects on the States, on the relationship between the national government and the States, or on the distribution of power and responsibilities among the various levels of government. We have determined that this proposed rule would not have federalism implications under Executive Order 13132.

Does this proposed AD involve a significant rule or regulatory action? For the reasons discussed above, I certify that this proposed action (1) is not a “significant regulatory action” under Executive Order 12866; (2) is not a “significant rule” under Department of Transportation Regulatory Policies and Procedures (44 FR 11034, February 26, 1979); and (3) if put into effect, will not have a significant economic impact, positive or negative, on a large number of small entities under the criteria of the Regulatory Flexibility Act. We have placed a copy of the draft regulatory evaluation prepared for this action in the Rules Docket. You may get a copy of it by contacting the Rules Docket at the location provided under the caption ADDRESSES.

List of Subjects in 14 CFR Part 39

Air transportation, Aircraft, Aviation safety, Safety.

The Proposed Amendment

Accordingly, under the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. FAA amends § 39.13 by adding a new airworthiness directive (AD) to read as follows:

Cessna Aircraft Company: Docket No. 98-CE-57-AD.

(a) What airplanes are affected by this AD? This AD affects the following airplanes that are certificated in any category and incorporate at least one 0513166 series plastic control wheel:

Model | Serial numbers
150 | 17684 through 17999, 59001 through 59018 and 617.
150A | 15059019 through 15059350 and 628.
150B | 15059351 through 15059700.
150C | 15060088 through 15060772.
172A | 46755 through 47746; 622 and 625.
172B | 17247747 through 17248734 and 630.
172C | 17248735 through 17249544.
172D | 17249545 through 17250572.
172E | 17259573 through 17250872 and 639.
P172 | P17257120 through P17257188.
175A | 56239 through 56777 and 619.
175B | 17556778 through 17557002.
175C | 17557003 through 17557119.
180C | 50662 through 50911 and 624.
180D | 18050912 through 18051063.
180E | 18051064 through 18051183.
180F | 18051184 through 18051312.
180G | 18051313 through 18051329.
182C | 52359 through 53007 and 631.
182D | 18253008 through 18253598 and 51623.
182E | 18253599 through 18254423.
182F | 18254424 through 18255058.
182G | 18255059 through 18255113.
185 | 185-0001 through 185-0237 and 632.
185A | 185-0238 through 185-0512.
185B | 185-0513 through 185-0653.
185C | 185-0654 through 185-0663.
206 | 206-0001 through 206-0062.
210 | 57001 through 57575 and 618.
210A | 21057576 through 21057840 and 616.
210B | 21057841 through 21058085.
210C | 21058086 through 21058220.
210D | 21058221 through 21058240.
210-5 (205) | 205-0001 through 205-0480 and 641.
210-5A (205A) | 205-0481 through 205-0520.
336 | 336-0001 through 336-0195.

Note 1: Serial numbers 616 through 619; 622, 624, 625, 628, 630 through 632, 639, 641, and 51623 are engineering-fabricated prototype airplanes that were used for prototypes and then sold as normally licensed airplanes. These airplanes carry serial numbers that are not in the normal sequence and have unique serials.

(b) Who must comply with this AD? Anyone who wishes to operate any of the above airplanes must comply with this AD.

(c) What problem does this AD address? The actions specified by this AD are intended to detect and correct cracked or defective control wheels, which could result in loss of control of the airplane during takeoff, landing, or ground operations.

(d) What must I do to address this problem? To address this problem, you must do the following actions:

Actions | Compliance times | Procedures
(1) Check your maintenance records to determine whether this AD applies to your airplane by doing the following: | Required within 100 hours time-in-service (TIS) after the effective date of this AD | No special procedures required to check the maintenance records
(i) Check the maintenance records to determine whether a 0513166 series plastic control wheel is installed. The owner/operator holding at least a private pilot certificate as authorized by section 43.7 of the Federal Aviation Regulations (14 CFR 43.7) may check the maintenance records
(ii) If, by checking the maintenance records, the pilot can positively show that no 0513166 series plastic control wheels are installed, then the inspection, testing, and replacement requirements of this AD do not apply. The AD is complied with after you make an entry into the aircraft records that shows compliance with this portion of the AD, in accordance with section 43.9 of the Federal Aviation Regulations (14 CFR 43.9)
(2) For any affected airplane where at least one 0513166 series plastic control wheel is installed, do the following: (i) inspect each control wheel for cracks; and (ii) conduct a pull test on each control wheel | Before further flight after the maintenance records check or within 100 hours TIS after the effective date of this AD, and reinspect afterward at intervals not to exceed 12 months until all control wheels are replaced with FAA-approved control wheels that are not 0513166 series plastic control wheels | Do this following the instructions of Cessna Service Letter No. 64-8, dated February 14, 1964
(3) Replace any cracked control wheel or any control wheel that does not pass any pull test, with an FAA-approved control wheel that is not a 0513166 series plastic control wheel | Do this replacement before further flight after the inspection where the cracked or failed control wheel is found | Do the replacements following the instructions in the applicable maintenance or service manual
(4) Do not install, on any affected airplane, a 0513166 series plastic control wheel | As of the effective date of this AD | Not Applicable
(5) You may replace all control wheels with wheels that are not part number 0513166, as terminating action for the repetitive inspection and test requirement of this AD | You may replace all control wheels at any time, except for those control wheels that are cracked or do not pass a pull test. Such wheels must be replaced prior to further flight, as required by paragraph (d)(3) of this AD | Do the replacements following the instructions in the applicable maintenance or service manual

(e) Can I comply with this AD in any other way? You may use an alternative method of compliance or adjust the compliance time if:

(1) Your alternative method of compliance provides an equivalent level of safety; and

(2) The Manager, Wichita Aircraft Certification Office (ACO), approves your alternative. Send your request through an FAA Principal Maintenance Inspector, who may add comments and then send it to the Manager, Wichita ACO.

Note 2: This AD applies to each airplane identified in paragraph (a) of this AD, regardless of whether it has been modified, altered, or repaired in the area subject to the requirements of this AD. For airplanes that have been modified, altered, or repaired so that the performance of the requirements of this AD is affected, the owner/operator must request approval for an alternative method of compliance in accordance with paragraph (e) of this AD. You should include in the request an assessment of the effect of the modification, alteration, or repair on the unsafe condition addressed by this AD; and, if you have not eliminated the unsafe condition, specific actions you propose to address it.

(f) Where can I get information about any already-approved alternative methods of compliance? Contact Eual Conditt, Aerospace Engineer, Wichita Aircraft Certification Office, FAA, 1801 Airport Road, Mid-Continent Airport, Wichita, Kansas 67209; telephone: (316) 946-4128; facsimile: (316) 946-4407.

(g) What if I need to fly the airplane to another location to comply with this AD? The FAA can issue a special flight permit under sections 21.197 and 21.199 of the Federal Aviation Regulations (14 CFR 21.197 and 21.199) to operate your airplane to a location where you can accomplish the requirements of this AD.

(h) How do I get copies of the documents referenced in this AD? You may get the service information referenced in the AD from Cessna Aircraft Company, Product Support, P.O. Box 7706, Wichita, Kansas 67277; or you may examine this document at FAA, Central Region, Office of the Regional Counsel, 901 Locust, Room 506, Kansas City, Missouri 64106.

Issued in Kansas City, Missouri, on December 19, 2000.
Michael Gallagher,
Manager, Small Airplane Directorate, Aircraft Certification Service.

[FR Doc. 00-33230 Filed 12-28-00; 8:45 am]

BILLING CODE 4910-13-U